DEPARTMENT OF TRANSPORTATION

Federal Aviation Administration

14 CFR Part 39

[Docket No. FAA-2009-0003; Directorate Identifier 2007-NM-251-AD]

RIN 2120-AA64

Airworthiness Directives; Airbus Model A330-200 and -300 Series Airplanes, and A340-200, -300, -500 and -600 Series Airplanes

AGENCY: Federal Aviation Administration (FAA), Department of Transportation (DOT).

ACTION: Supplemental notice of proposed rulemaking (NPRM); reopening of comment period.

SUMMARY: We are revising an earlier NPRM for the products listed above. This action revises the earlier NPRM by expanding the scope. This AD results from mandatory continuing airworthiness information (MCAI) originated by an aviation authority of another country to identify and correct an unsafe condition on an aviation product. The MCAI describes the unsafe condition as: Several cases of corrosion and damage on the Down Drive Shafts (DDS), between the Down Drive Gear Box (DDGB) and the Input Gear Box (IPGB), on all 10 Flap Tracks (5 per wing), have been reported by AIRBUS Long Range Operators. Investigations have revealed that corrosion and wear due to absence of grease in the spline interfaces could cause [DDS] disconnection which could result in a free movable flap surface, potentially leading to aircraft asymmetry or even flap detachment.

The unsafe condition could reduce the ability of the flightcrew to maintain the safe flight and landing of the airplane. The proposed AD would require actions to correct the unsafe condition on these products.

DATES: We must receive comments on this proposed AD by April 23, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80, e-mail airworthiness.A330-A340@airbus.com; Internet http://www.airbus.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, FAA, Transport Airplane Directorate, 1601 Lind Avenue, SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2009-0003; Directorate Identifier 2007-NM-251-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We proposed to amend 14 CFR part 39 with an earlier NPRM for the specified products, which was published in the Federal Register on January 13, 2009 (74 FR 1649). That earlier NPRM proposed to correct an unsafe condition for the products listed above.

Since that NPRM was issued, we have determined that the actions specified in paragraph (f)(1)(ii) of the NPRM need to be clarified in order for us to provide adequate notice and opportunity for public comment. Paragraph (g)(1)(ii) of the NPRM specifies to inspect flap tracks 2 and 4 and do all applicable corrective actions (replacing damaged parts). This supplemental NPRM would also require inspecting flap tracks 1, 3, and 5.

Explanation of Revised Service Information

Airbus has issued the revised service information specified in the following table. We have added the applicable revised service information to paragraph (g) of this supplemental NPRM as the appropriate sources of service information for accomplishing the required actions.

Service Information
Airbus mandatory service bulletin— | Revision— | Dated—
A330-27-3151, including Appendix 01 | 01 | March 19, 2008.
A330-27-3152, including Appendices 1 and 2 | 01 | March 19, 2008.
A330-27-3152, including Appendices 1 and 2 | 02 | September 23, 2008.
A340-27-4151, including Appendix 01 | 01 | March 19, 2008.
A340-27-4152, including Appendices 1 and 2 | 01 | March 19, 2008.
A340-27-4152, including Appendices 1 and 2 | 02 | September 23, 2008.
A340-27-5040, including Appendix 1 | 01 | March 19, 2008.
A340-27-5040, including Appendix 01 | 02 | September 23, 2008.

No additional work is necessary for airplanes on which the actions specified in the service information in the following table, and referred to in the original NPRM as the appropriate sources of service information for doing the proposed actions, were done.

Credit Service Information
Airbus mandatory service bulletin— | Revision— | Dated—
A330-27-3151 | Original | August 9, 2007.
A330-27-3152 | Original | August 9, 2007.
A340-27-4151 | Original | August 9, 2007.
A340-27-4152 | Original | August 9, 2007.
A340-27-5040 | Original | August 9, 2007.

We have added a new paragraph (g)(3) to this AD to include credit for previous accomplishment of the specified actions using the applicable service information listed in the Credit Service Information table, above.

Comments

We have considered the following comments received on the earlier NPRM.

Request To Clarify Actions in the Latest Service Bulletin Revisions

The Air Transport Association (ATA), on behalf of Northwest Airlines (NWA), states that the service bulletins referred to in the original NPRM have been revised and asks which revisions of the service bulletins should be used to accomplish the actions. NWA notes that the inspection procedures specified in Airbus Mandatory Service Bulletin A330-27-3152, Revision 02, dated September 23, 2008, are more restrictive than those in the original issue of Airbus Mandatory Service Bulletin A330-27-3152, dated August 9, 2007. NWA adds that the original issue of Airbus Mandatory Service Bulletin A330-27-3152, dated August 9, 2007, does not specify parts replacement for Type 1 and Type 2 category findings during the inspection; however, Airbus Mandatory Service Bulletin A330-27-3152, Revision 02, specifies replacement of the input gear box (IPGB) within 18 months. NWA asks that the intent of the inspection and replacement requirements be clarified.

We agree that some clarification is necessary, as follows. As stated previously, the latest revisions of Airbus Mandatory Service Bulletins A330-27-3152, Revision 02, and A340-27-4151, Revision 01, are cited in the supplemental NPRM for accomplishing the proposed actions. The changes in Airbus Mandatory Service Bulletins A330-27-3152, Revision 02, and A340-27-4151, Revision 01, are minor and no additional work is necessary for airplanes on which the actions have been done using those revisions.

The NPRM proposed to require replacing all damaged parts before further flight, regardless of the type of damage; however, the revised service information changed the actions for Type 2 damaged parts from “no replacement required” to “replacement within 18 months.” This action is only applicable if Type 2 damaged parts are found. It is not necessary to replace Type 1 damaged parts.

Requests To Extend Compliance Time

ATA, on behalf of its member NWA, also notes that the compliance time of 18 months for the IPGB replacement, and a compliance time of 20 months for the initial inspection, as specified in paragraph (g)(2) of the original NPRM, should be extended to 24 months to align with its “C” check intervals. NWA adds that the Airbus service information refers to General Electric (Smiths) Service Bulletin 6975-27-018, dated August 2007, to define Type 2 damage findings. NWA states that allowing a 24-month compliance period, instead of 18 months, for Type 2 damage findings on airplanes up to 6 years old would still require IPGB replacement within 8 years since the airworthiness certification date, which is substantially less than the 12 years specified in the Airbus service information and the EASA AD. In addition, NWA notes that new grease is applied to the splined area following the 6-year inspection, reducing additional wear and corrosion during the 24-month period before IPGB replacement.

We disagree with the commenter's request that the compliance time should be extended to 24 months to align with “C” check intervals. In developing an appropriate compliance time for this action, we considered the urgency associated with the subject unsafe condition, the availability of required parts, and the practical aspect of accomplishing the required actions within a period of time that corresponds to the normal scheduled maintenance for most affected operators. In light of these items, we have determined that an 18-month compliance time for the IPGB replacement, and a 20-month compliance time for the inspections specified in paragraph (g)(2) of this supplemental NPRM, are appropriate. However, under the provisions of paragraph (h)(1) of the supplemental NPRM, we will consider requests to adjust the compliance time if sufficient data are submitted to substantiate that the new compliance time would provide an acceptable level of safety. We have made no change to the original NPRM in this regard.

Another commenter, Elvio Marinelli, asks that the compliance time of “before further flight” for doing the corrective actions specified in paragraphs (f)(1)(i), (f)(1)(ii), (f)(1)(iii), (f)(1)(iv), and (f)(2) of the original NPRM, be changed to match the language in the EASA AD which requires accomplishing the corrective actions within the compliance time defined in Airbus Mandatory Service Bulletins A330-27-3152 and A340-27-4151. The commenter adds that the compliance time in Airbus Mandatory Service Bulletins A330-27-3152 and A340-27-4151 allows continued flight with a certain extent of damage to the down drive shafts (DDS) and the IPGB, which defers the replacement.

We acknowledge that the original NPRM proposed to require replacing all damaged parts before further flight, regardless of type of damage; however, the revised service information changed the actions for Type 2 damaged parts. Therefore, we have revised this supplemental NPRM to clarify that Type 3 damaged parts must be repaired before further flight and that certain Type 2 damaged parts must be repaired within 18 months. It is not necessary to replace Type 1 damaged parts.

Request To Remove Reporting Requirement

ATA, on behalf of its member NWA, asks that the requirement to report inspection findings to Airbus be removed from the original NPRM. NWA states that the referenced Airbus service information specifies that findings from each inspection be sent to Airbus. NWA asks that the original NPRM clearly state that this is not a requirement.

We disagree with the commenter's request that the reporting requirement should be removed from this supplemental NPRM, or language added to state that no reporting is required. We have determined that reporting the inspection findings will enable the manufacturer to obtain better insight into the prevalence of the damage. Access to all findings will also help the manufacturer to develop final action to address the identified unsafe condition in a timely manner. We have made no change to the proposed AD in this regard.

Request To Include Parts Cost

ATA, on behalf of its member NWA, asks that a parts cost of $11,000 per airplane for the corrective action be added to the original NPRM. ATA states that the cost of compliance is underestimated because the parts cost was not included. NWA notes that industry data provided by Airbus indicate that 10 to 15 percent of all DDS and IPGB parts inspected require replacement. NWA adds that using these industry findings, rates and repair costs provided to NWA by the supplier are approximately $11,000.

We disagree with the commenter's request that the parts cost be included in this supplemental NPRM. The data in the Costs of Compliance section (below) are limited to the cost of actions actually required by the supplemental NPRM. The cost analysis in AD rulemaking actions does not include the costs of “on-condition” actions (e.g., “repair or replace, if necessary”) or replacement parts that are necessary when doing those on-condition actions. Regardless of AD direction, those actions would be required to correct an unsafe condition identified on an airplane and ensure operation of that airplane in an airworthy condition. Therefore, we have made no change to the supplemental NPRM in this regard.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Certain changes described above expand the scope of the earlier NPRM. As a result, we have determined that it is necessary to reopen the comment period to provide additional opportunity for the public to comment on this proposed AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Explanation of Change to Costs of Compliance

Since issuance of the original NPRM, we have increased the labor rate used in the Costs of Compliance from $80 per work hour to $85 per work hour. The Costs of Compliance information, below, reflects this increase in the specified hourly labor rate.

Costs of Compliance

Based on the service information, we estimate that this proposed AD affects about 41 products of U.S. registry. We also estimate that it takes about 65 work-hours per product to comply with the basic requirements of this proposed AD. The average labor rate is $85 per work-hour. Based on these figures, we estimate the cost of the proposed AD on U.S. operators to be $226,525, or $5,525 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

AIRBUS: Docket No. FAA-2009-0003; Directorate Identifier 2007-NM-251-AD.

Comments Due Date

(a) We must receive comments by April 23, 2010.

Affected ADs

(b) None.

Applicability

(c) This AD applies to Airbus Model A330-201, -202, -203, -223, -243, -301, -302, -303, -321, -322, -323, -341, -342, and -343 series airplanes, A340-211, -212, -213, -311, -312, -313, series airplanes, and A340-541 and -642 airplanes, certificated in any category; all certified models, all manufacturer serial numbers.

Subject

(d) Air Transport Association (ATA) of America Code 27: Flight Controls.

Reason

(e) The mandatory continuing airworthiness information (MCAI) states:

Several cases of corrosion and damage on the Down Drive Shafts (DDS), between the Down Drive Gear Box (DDGB) and the Input Gear Box (IPGB), on all 10 Flap Tracks (5 per wing), have been reported by AIRBUS Long Range Operators.

Investigations have revealed that corrosion and wear due to absence of grease in the spline interfaces could cause [DDS] disconnection which could result in a free movable flap surface, potentially leading to aircraft asymmetry or even flap detachment.

Emergency Airworthiness Directive (EAD) 2007-0222-E mandated on all aircraft older than 6 years since AIRBUS original delivery date of the aircraft, an initial inspection of all DDS and IPGB for corrosion and wear detection in order to replace any damaged part.

Revision 1 of EAD 2007-0222-E aimed for clarifying the compliance instructions.

[EASA AD 2008-0026] supersedes the EAD 2007-0222R1-E and mandates repetitive inspections every 6 years for all the fleet.

The unsafe condition could reduce the ability of the flightcrew to maintain the safe flight and landing of the airplane. The corrective actions include replacing damaged parts.

Compliance

(f) You are responsible for having the actions required by this AD performed within the compliance times specified, unless the actions have already been done.

Actions

(g) Do the applicable inspections and corrective actions specified in paragraphs (g)(1) and (g)(2) of this AD, in accordance with the instructions of the applicable service information specified in Table 1 of this AD.

Table 1—Service Information
For model— | Use airbus mandatory service bulletin— | For actions specified in paragraph—
A330-200 and -300 series airplanes | A330-27-3151, Revision 01, dated March 19, 2008 | (g)(1)(i) and (g)(1)(ii) of this AD.
A330-200 and -300 series airplanes | A330-27-3152, Revision 02, dated September 23, 2008 | (g)(1)(iv) and (g)(2) of this AD.
A340-200 and -300 series airplanes | A340-27-4151, Revision 01, dated March 19, 2008 | (g)(1)(i) and (g)(1)(ii) of this AD.
A340-200 and -300 series airplanes | A340-27-4152, Revision 02, dated September 23, 2008 | (g)(1)(iv) and (g)(2) of this AD.
A340-541 and -642 series airplanes | A340-27-5040, Revision 02, dated September 23, 2008 | (g)(2) of this AD.

(1) For Model A330-200 and -300 series airplanes, up to and including manufacturer serial number (MSN) 0420, and Model A340-200 and -300 series airplanes, up to and including MSN 0415, except MSNs 0385 and 0395: Do the applicable actions specified in paragraphs (g)(1)(i), (g)(1)(ii), (g)(1)(iii), and (g)(1)(iv) of this AD at the applicable time specified.

(i) For airplanes on which less than 10 years have accumulated since the date of issuance of the original French standard airworthiness certificate or the date of issuance of the original French or EASA export certificate of airworthiness as of the effective date of this AD: Within 24 months after the effective date of this AD, perform simultaneous detailed visual inspections of the IPGB and of the DDS on all flap tracks on both wings for corrosion and wear detection and do all applicable corrective actions. For Type 3 damaged parts, do all applicable corrective actions before further flight. For Type 2 damaged IPGB parts, do all applicable corrective actions within 18 months after doing the inspection.

(ii) For airplanes on which 10 or more years have accumulated since the date of issuance of the original French standard airworthiness certificate or the date of issuance of the original French or EASA export certificate of airworthiness as of the effective date of this AD: Within 4 months after the effective date of this AD, perform simultaneous detailed visual inspections of the IPGB and of the DDS on flap tracks 2 and 4 on both wings for corrosion and wear detection. For any Type 3 damaged parts on flap tracks 2 and 4, do all applicable corrective actions before further flight. For any Type 2 damaged IPGB parts on flap tracks 2 and 4, do all applicable corrective actions within 18 months after doing the inspection required by paragraph (g)(1)(ii) of this AD.

(A) For wings on which Type 3 damage is found on the DDS of flap track 2 or 4, perform simultaneous detailed visual inspections of the IPGB and of the DDS on flap track 3 on both wings for corrosion and wear detection. For Type 3 damaged parts on flap track 3, do all applicable corrective actions before further flight. For Type 2 damaged IPGB parts, on flap track 3, do all applicable corrective actions within 18 months after doing the inspection required by paragraph (g)(1)(ii)(A) of this AD.

(1) For wings on which Type 3 damage is found on the DDS of flap track 3, before further flight, perform simultaneous detailed visual inspections of the IPGB and of the DDS on flap tracks 1 and 5 on both wings for corrosion and wear detection. For Type 3 damaged parts on flap tracks 1 and 5, do all applicable corrective actions before further flight. For Type 2 damaged IPGB parts on flap tracks 1 and 5, do all applicable corrective actions within 18 months after doing the inspection required by paragraph (g)(1)(ii)(A)(1) of this AD.

(2) For wings on which no Type 3 damage is found on the DDS of flap track 3, within 18 months after doing the inspection required by paragraph (g)(1)(ii)(A) of this AD, perform simultaneous detailed visual inspections of the IPGB and of the DDS on flap tracks 1 and 5 on both wings for corrosion and wear detection. For any Type 3 damaged parts on flap tracks 1 and 5, do all applicable corrective actions before further flight. For any Type 2 damaged IPGB parts on flap tracks 1 and 5, do all applicable corrective actions within 18 months after doing the inspection required by paragraph (g)(1)(ii)(A)(2) of this AD.

(B) For wings on which no Type 3 damage is found on the DDS of flap track 2 and 4: Within 18 months after doing the inspection required by paragraph (g)(1)(ii) of this AD, perform simultaneous detailed visual inspections of the IPGB and of the DDS on flap tracks 1, 3, and 5 on both wings for corrosion and wear detection. For any Type 3 damaged parts on flap tracks 1, 3, and 5, do all applicable corrective actions before further flight. For Type 2 damaged IPGB parts on flap tracks 1, 3, and 5, do all applicable corrective actions within 18 months after doing the inspection required by paragraph (g)(1)(ii) of this AD.

(iii) Within 30 days after performing an initial inspection required by paragraph (g)(1)(i) or (g)(1)(ii) of this AD, or within 30 days after the effective date of this AD, whichever occurs later, report the initial inspection results only, whatever they are, to Airbus as specified in the reporting sheet of the applicable service information listed in Table 1 of this AD.

(iv) Within 6 years after performing the applicable inspection required by paragraph (g)(1)(i) or (g)(1)(ii) of this AD, and thereafter at intervals not exceeding 6 years: Perform simultaneous detailed visual inspections of the IPGB and of the DDS on all flap tracks on both wings for corrosion and wear detection and do all applicable corrective actions. For Type 3 damaged parts, do all applicable corrective actions before further flight. For Type 2 damaged IPGB parts, do all applicable corrective actions within 18 months after doing the inspection.

(2) For airplanes other than those identified in paragraph (g)(1) of this AD: Within 6 years after issuance of the original French standard airworthiness certificate or the date of issuance of the original French or EASA export certificate of airworthiness, or within 20 months after the effective date of this AD, whichever occurs later; and thereafter at intervals not exceeding 6 years; perform simultaneous detailed visual inspections of the IPGB and of the DDS on all flap tracks on both wings for corrosion and wear detection and do all applicable corrective actions. For Type 3 damaged parts, do all applicable corrective actions before further flight. For Type 2 damaged IPGB parts, do all applicable corrective actions within 18 months after doing the inspection.

(3) Actions done before the effective date of this AD in accordance with the applicable service information specified in Table 2 of this AD are acceptable for compliance with the corresponding requirements of this AD.

Table 2—Credit Service Information
Airbus mandatory service bulletin— | Revision— | Dated—
A330-27-3151 | Original | August 9, 2007.
A330-27-3152 | Original | August 9, 2007.
A330-27-3152 | 01 | March 19, 2008.
A340-27-4151 | Original | August 9, 2007.
A340-27-4152 | Original | August 9, 2007.
A340-27-4152 | 01 | March 19, 2008.
A340-27-5040 | Original | August 9, 2007.
A340-27-5040 | 01 | March 19, 2008.

Note 1: Airbus should be contacted in order to get appropriate information for airplanes on which the original delivery date of the airplane is unknown to the operator.

FAA AD Differences

Note 2: This AD differs from the MCAI and/or service information as follows: No differences.

Other FAA AD Provisions

(h) The following provisions also apply to this AD:

(1) Alternative Methods of Compliance (AMOCs): The Manager, International Branch, ANM-116, has the authority to approve AMOCs for this AD, if requested using the procedures found in 14 CFR 39.19. Send information to ATTN: Vladimir Ulyanov, Aerospace Engineer, International Branch, ANM-116, FAA, Transport Airplane Directorate, 1601 Lind Avenue, SW., Renton, Washington 98057-3356; telephone (425) 227-1138; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI EASA Airworthiness Directive 2008-0026, dated February 12, 2008, and the service information specified in Table 1 of this AD, for related information.

Issued in Renton, Washington, on March 19, 2010.
Ali Bahrami,
Manager, Transport Airplane Directorate, Aircraft Certification Service.

[FR Doc. 2010-6849 Filed 3-26-10; 8:45 am]

BILLING CODE 4910-13-P